DEPARTMENT OF TRANSPORTATION

Federal Aviation Administration

14 CFR Part 97

[Docket No. 31265; Amdt. No. 3863]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 14, 2019. The compliance date for each SIAP, associated Takeoff Minimums, and ODP is specified in the amendatory provisions.

The incorporation by reference of certain publications listed in the regulations is approved by the Director of the Federal Register as of August 14, 2019.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, email fedreg.legal@nara.gov or go to: https://www.archives.gov/federal-register/cfr/ibr-locations.html .

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on July 26, 2019.
Rick Domingo,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 12 September 2019

Atlanta, GA, Hartsfield—Jackson Atlanta Intl, RNAV (GPS) RWY 09L, Amdt 4C

Atlanta, GA, Hartsfield—Jackson Atlanta Intl, RNAV (GPS) PRM RWY 9L (SIMULTANEOUS CLOSE PARALLEL), Orig-C

Augusta, GA, Augusta Rgnl at Bush Field, RNAV (GPS) Z RWY 8, Orig-B

Winder, GA, Barrow County, ILS OR LOC RWY 31, Orig-E

Winder, GA, Barrow County, NDB RWY 31, Amdt 9D

Winder, GA, Barrow County, RNAV (GPS) RWY 13, Amdt 1B

Winder, GA, Barrow County, RNAV (GPS) RWY 23, Orig-C

Winder, GA, Barrow County, RNAV (GPS) RWY 31, Amdt 1D

Effective 10 October 2019

Atqasuk, AK, Atqasuk Edward Burnell Sr Memorial, NDB RWY 6, Amdt 2B, CANCELLED

Heber Springs, AR, Heber Springs Muni, Takeoff Minimums and Obstacle DP, Amdt 1

Texarkana, AR, Texarkana Rgnl-Webb Field, RNAV (GPS) RWY 13, Orig-B

St Johns, AZ, St Johns Industrial Air Park, RNAV (GPS) RWY 32, Amdt 1

St Johns, AZ, St Johns Industrial Air Park, VOR-A, Amdt 2A

Fresno, CA, Fresno Chandler Executive, RNAV (GPS) RWY 12, Amdt 1

Fresno, CA, Fresno Chandler Executive, RNAV (GPS) RWY 30, Amdt 1

Fresno, CA, Fresno Chandler Executive, Takeoff Minimums and Obstacle DP, Amdt 3

Fresno, CA, Fresno Chandler Executive, VOR/DME OR GPS-C, Amdt 5A, CANCELLED

Little River, CA, Little River, RNAV (GPS) RWY 29, Amdt 2

Madera, CA, Madera Muni, RNAV (GPS) RWY 12, Amdt 2

Madera, CA, Madera Muni, RNAV (GPS) RWY 30, Amdt 2

Madera, CA, Madera Muni, Takeoff Minimums and Obstacle DP, Amdt 5

Madera, CA, Madera Muni, VOR RWY 30, Amdt 10, CANCELLED

Ontario, CA, Ontario Intl, ILS OR LOC RWY 26L, ILS RWY 26L CAT II, ILS RWY 26L CAT III, Amdt 8B

Ontario, CA, Ontario Intl, ILS OR LOC RWY 26R, Amdt 5A

Palo Alto, CA, Palo Alto, RNAV (GPS) RWY 31, Amdt 2

Palo Alto, CA, Palo Alto, VOR RWY 31, Amdt 1

Santa Monica, CA, Santa Monica Muni, RNAV (GPS) Y RWY 3, Amdt 1A

Ormond Beach, FL, Ormond Beach Muni, Takeoff Minimums and Obstacle DP, Orig-B

Pensacola, FL, Pensacola Intl, RNAV (GPS) RWY 8, Amdt 2E

Belle Plaine, IA, Belle Plaine Muni, RNAV (GPS) RWY 18, Orig-C

Belle Plaine, IA, Belle Plaine Muni, RNAV (GPS) RWY 36, Orig-C

Council Bluffs, IA, Council Bluffs Muni, ILS OR LOC RWY 36, Amdt 1A

Council Bluffs, IA, Council Bluffs Muni, RNAV (GPS) RWY 18, Amdt 1A

Council Bluffs, IA, Council Bluffs Muni, RNAV (GPS) RWY 36, Amdt 2A

Council Bluffs, IA, Council Bluffs Muni, VOR-A, Amdt 5A

Waterloo, IA, Waterloo Rgnl, VOR RWY 6, Amdt 4

Waterloo, IA, Waterloo Rgnl, VOR RWY 18, Amdt 10

Carmi, IL, Carmi Muni, RNAV (GPS) RWY 18, Orig

Carmi, IL, Carmi Muni, RNAV (GPS) RWY 36, Amdt 1

Jeffersonville, IN, Clark Rgnl, ILS OR LOC RWY 18, Amdt 4A

Jeffersonville, IN, Clark Rgnl, RNAV (GPS) RWY 18, Amdt 1A

Sullivan, IN, Sullivan County, RNAV (GPS) RWY 36, Amdt 1A

Ottawa, KS, Ottawa Muni, RNAV (GPS) RWY 17, Amdt 2

Ottawa, KS, Ottawa Muni, RNAV (GPS) RWY 35, Amdt 2

Scott City, KS, Scott City Muni, RNAV (GPS) RWY 17, Orig-A

Winfield/Arkansas City, KS, Strother Field, RNAV (GPS) RWY 35, Amdt 1A

Bowling Green, KY, Bowling Green-Warren County Rgnl, ILS Y OR LOC Y RWY 3, Amdt 2

Bowling Green, KY, Bowling Green-Warren County Rgnl, ILS Z OR LOC Z RWY 3, Orig

Bowling Green, KY, Bowling Green-Warren County Rgnl, NDB RWY 3, Amdt 3

Bowling Green, KY, Bowling Green-Warren County Rgnl, VOR-A, Orig-A, CANCELLED

Hartford, KY, Ohio County, RNAV (GPS) RWY 3, Orig-C

Hartford, KY, Ohio County, RNAV (GPS) RWY 21, Orig-C

Mansfield, LA, C E `Rusty' Williams, NDB RWY 18, Amdt 2A, CANCELLED

Marquette, MI, Sawyer Intl, ILS OR LOC RWY 1, Amdt 1A

Duluth, MN, Duluth Intl, COPTER ILS OR LOC RWY 27, Amdt 2B, CANCELLED

Duluth, MN, Duluth Intl, ILS OR LOC RWY 27, Amdt 11

Duluth, MN, Duluth Intl, RNAV (GPS) RWY 27, Amdt 1

Duluth, MN, Duluth Intl, Takeoff Minimums and Obstacle DP, Amdt 1

Bowling Green, MO, Bowling Green Muni, VOR/DME-A, Amdt 2A, CANCELLED

Harrisonville, MO, Lawrence Smith Memorial, RNAV (GPS) RWY 35, Orig-B

Manteo, NC, Dare County Regional, VOR RWY 17, Amdt 4A, CANCELLED

Maxton, NC, Laurinburg-Maxton, ILS OR LOC RWY 5, Amdt 2B

Maxton, NC, Laurinburg-Maxton, RNAV (GPS) RWY 5, Amdt 1C

Maxton, NC, Laurinburg-Maxton, RNAV (GPS) RWY 23, Amdt 2

Williamston, NC, Martin County, RNAV (GPS) RWY 3, Amdt 1B

Williamston, NC, Martin County, RNAV (GPS) RWY 21, Amdt 1B

Minot, ND, Minot Intl, VOR RWY 8, Amdt 11A

Minot, ND, Minot Intl, VOR RWY 13, Amdt 11A

Minot, ND, Minot Intl, VOR RWY 26, Amdt 13A

Minot, ND, Minot Intl, VOR RWY 31, Amdt 11A

Williston, ND, Sloulin Fld Intl, ILS OR LOC RWY 29, Amdt 4C

Williston, ND, Sloulin Fld Intl, VOR RWY 11, Amdt 13A

Williston, ND, Williston Basin Intl, ILS OR LOC RWY 32, Orig

Williston, ND, Williston Basin Intl, RNAV (GPS) RWY 14, Orig

Williston, ND, Williston Basin Intl, RNAV (GPS) RWY 32, Orig Williston, ND, Williston Basin Intl, Takeoff Minimums and Obstacle DP, Orig

Williston, ND, Williston Basin Intl, VOR RWY 14, Orig

Williston, ND, Williston Basin Intl, VOR RWY 32, Orig

Mount Holly, NJ, South Jersey Rgnl, RNAV (GPS) RWY 8, Orig-C

Buffalo, NY, Buffalo Niagara Intl, ILS OR LOC RWY 5, Amdt 17B

Dunkirk, NY, Chautauqua County/Dunkirk, RNAV (GPS) RWY 15, Amdt 1A

Dunkirk, NY, Chautauqua County/Dunkirk, RNAV (GPS) RWY 33, Orig-C

Dunkirk, NY, Chautauqua County/Dunkirk, RNAV (GPS) A, Orig-A

Dunkirk, NY, Chautauqua County/Dunkirk, RNAV (GPS) B, Orig-A

Ellenville, NY, Joseph Y Resnick, RNAV (GPS) RWY 22, Orig-A

New York, NY, Long Island Mac Arthur, ILS OR LOC RWY 24, Amdt 4D

Potsdam, NY, Potsdam Muni/Damon Fld/, RNAV (GPS) RWY 24, Amdt 1

Bellefontaine, OH, Bellefontaine Rgnl, VOR RWY 7, Orig-C

Urbana, OH, Grimes Field, VOR-A, Amdt 6

West Union, OH, Alexander Salamon, RNAV (GPS) RWY 5, Orig-B

West Union, OH, Alexander Salamon, RNAV (GPS) RWY 23, Orig-B

Corry, PA, Corry-Lawrence, VOR RWY 32, Amdt 5, CANCELLED

Quakertown, PA, Quakertown, RNAV (GPS) RWY 11, Orig-C

Quakertown, PA, Quakertown, RNAV (GPS) RWY 29, Amdt 1C

San Juan, PR, Luis Munoz Marin Intl, RNAV (GPS) RWY 26, Orig-C

San Juan, PR, Luis Munoz Marin Intl, RNAV (GPS) RWY 28, Orig

Highmore, SD, Highmore Muni, RNAV (GPS) RWY 13, Orig-A

Rapid City, SD, Rapid City Rgnl, VOR OR TACAN RWY 14, Orig-G

Rapid City, SD, Rapid City Rgnl, VOR OR TACAN RWY 32, Amdt 24H

Vermillion, SD, Harold Davidson Field, RNAV (GPS) RWY 12, Orig-A

Vermillion, SD, Harold Davidson Field, RNAV (GPS) RWY 30, Amdt 2A

Abilene, TX, Abilene Rgnl, ILS OR LOC RWY 35R, Amdt 7B

Abilene, TX, Abilene Rgnl, RNAV (GPS) RWY 22, Orig-B

Abilene, TX, Abilene Rgnl, RNAV (GPS) RWY 35R, Amdt 1C

Amarillo, TX, Rick Husband Amarillo Intl, RNAV (GPS) Y RWY 4, Amdt 1A

Baytown, TX, Baytown, Takeoff Minimums and Obstacle DP, Orig-A

Brady, TX, Curtis Field, NDB RWY 17, Amdt 4A, CANCELLED

Center, TX, Center Muni, NDB RWY 17, Amdt 2B

Center, TX, Center Muni, RNAV (GPS) RWY 35, Orig-B

Cleburne, TX, Cleburne Rgnl, LOC RWY 15, Orig-F

Cleburne, TX, Cleburne Rgnl, RNAV (GPS) RWY 15, Amdt 1B

Cleburne, TX, Cleburne Rgnl, RNAV (GPS) RWY 33, Amdt 1B

Coleman, TX, Coleman Muni, RNAV (GPS) RWY 15, Amdt 1

Coleman, TX, Coleman Muni, RNAV (GPS) RWY 33, Amdt 1

Corsicana, TX, C David Campbell Field-Corsicana Muni, RNAV (GPS) RWY 32, Amdt 1

Dallas-Fort Worth, TX, Dallas-Fort Worth Intl, ILS RWY 18L (CONVERGING), Amdt 2B

Dallas-Fort Worth, TX, Dallas-Fort Worth Intl, ILS RWY 18R (CONVERGING), Amdt 6B

Dallas-Fort Worth, TX, Dallas-Fort Worth Intl, ILS OR LOC RWY 17C, ILS RWY 17C SA CAT I, ILS RWY 17C CAT II, ILS RWY 17C CAT III, Amdt 11A

Dallas-Fort Worth, TX, Dallas-Fort Worth Intl, ILS OR LOC RWY 17R, ILS RWY 17R SA CAT I, ILS RWY 17R SA CAT II, Amdt 23C

Fort Worth, TX, Bourland Field, RNAV (GPS) RWY 35, Amdt 2

Fort Worth, TX, Bourland Field, VOR/DME-A, Orig-C, CANCELLED

Granbury, TX, Granbury Rgnl, RNAV (GPS) RWY 14, Amdt 1

Hamilton, TX, Hamilton Muni, RNAV (GPS) RWY 18, Amdt 1C

Hamilton, TX, Hamilton Muni, RNAV (GPS) RWY 36, Amdt 1C

Mineral Wells, TX, Mineral Wells Rgnl, RNAV (GPS) RWY 31, Orig-A

Stephenville, TX, Clark Field Muni, VOR/DME-A, Amdt 1A, CANCELLED

Sulphur Springs, TX, Sulphur Springs Muni, RNAV (GPS) RWY 1, Amdt 1B

Sulphur Springs, TX, Sulphur Springs Muni, RNAV (GPS) RWY 19, Orig-C

Sulphur Springs, TX, Sulphur Springs Muni, VOR-B, Amdt 7

Sweetwater, TX, Avenger Field, NDB RWY 17, Amdt 4A, CANCELLED

Waco, TX, Heart of Texas Industrial, ILS OR LOC RWY 17L, Amdt 13C

Waco, TX, Heart of Texas Industrial, NDB RWY 35R, Amdt 12A

Waco, TX, Heart of Texas Industrial, RNAV (GPS) RWY 17L, Amdt 2

Waco, TX, Heart of Texas Industrial, RNAV (GPS) RWY 35R, Amdt 2A

Waco, TX, Heart of Texas Industrial, Takeoff Minimums and Obstacle DP, Orig-A

Duchesne, UT, Duchesne Muni, Takeoff Minimums and Obstacle DP, Amdt 1

Norfolk, VA, Hampton Roads Executive, ILS OR LOC RWY 10, Orig

West Point, VA, Middle Peninsula Rgnl, RNAV (GPS) RWY 28, Orig-D, CANCELLED

West Point, VA, Middle Peninsula Rgnl, RNAV (GPS)-B, ORIG

Antigo, WI, Langlade County, RNAV (GPS) RWY 9, Orig-B

Antigo, WI, Langlade County, RNAV (GPS) RWY 27, Amdt 1A

Fond Du Lac, WI, Fond Du Lac County, LOC RWY 36, Amdt 1B

Fond Du Lac, WI, Fond Du Lac County, RNAV (GPS) RWY 36, Amdt 1A

Morgantown, WV, Morgantown Muni-Walter L Bill Hart Fld, ILS OR LOC RWY 18, Amdt 13C

Morgantown, WV, Morgantown Muni-Walter L Bill Hart Fld, RNAV (GPS) Y RWY 18, Orig-C

Morgantown, WV, Morgantown Muni-Walter L Bill Hart Fld, RNAV (GPS) Z RWY 18, Orig-B

Fort Bridger, WY, Fort Bridger, Takeoff Minimums and Obstacle DP, Amdt 1

Saratoga, WY, Shively Field, RNAV (GPS) RWY 5, Orig-C

RESCINDED: On July 18, 2019 (84 FR 34290), the FAA published an Amendment in Docket No. 31260, Amdt No. 3859, to Part 97 of the Federal Aviation Regulations under sections 97.23, 97.33, 97.37. The following entries for Madera, CA, effective August 15, 2019, are hereby rescinded in their entirety:

Madera, CA, Madera Muni, RNAV (GPS) RWY 12, Amdt 2

Madera, CA, Madera Muni, RNAV (GPS) RWY 30, Amdt 2

Madera, CA, Madera Muni, Takeoff Minimums and Obstacle DP, Amdt 5

Madera, CA, Madera Muni, VOR RWY 30, Amdt 10, CANCELLED

[FR Doc. 2019-16922 Filed 8-13-19; 8:45 am]

BILLING CODE 4910-13-P